DEPARTMENT OF ENERGY

Federal Energy Regulatory Commission

Supplemental Notice Regarding Staff Technical Conference

August 23, 2010.

California Independent System Operator Corporation | Docket Nos. ER10-1401-000, ER10-2191-000.
Green Energy Express LLC, 21st Century Transmission Holdings, LLC | Docket No. EL10-76-000.
Southern California Edison Company | Docket Nos. ER10-732-000, ER10-732-001.
Southern California Edison Company | Docket Nos. EL10-1-000, EL10-1-001, EL10-1-002.
Southern California Edison Company | Docket Nos. ER10-796-000, ER10-796-001.
Southern California Edison Company | Docket No. EL10-81-000.

By order dated July 26, 2010, in Docket No. ER10-1401-000, the Federal Energy Regulatory Commission (Commission) directed staff to convene a technical conference regarding California Independent System Operator Corporation's (CAISO) proposed Revised Transmission Planning Process (RTPP).¹

¹ Cal. Indep. Sys. Operator Corp., 132 FERC ¶ 61,067 (2010).

Pursuant to notices issued on August 3, 2010 and August 19, 2010,² such conference will be held on August 24, 2010 at the Commission's headquarters at 888 First Street, NE., Washington, DC 20426, beginning at 9 a.m. (EDT) in the Commission Meeting Room. The technical conference will be led by Commission staff. Commissioners may attend the conference. All interested persons are invited to attend, and registration is not required.

² A further supplemental notice was issued on August 20, 2010.

As stated previously, the purpose of the technical conference is to discuss the issues raised by CAISO's proposed revisions to its Open Access Transmission Tariff (Tariff) to implement its RTPP in Docket No. ER10-1401-000 and obtain additional information regarding CAISO's proposal. However, because CAISO's RTPP filing presents issues that may be tangentially related to the proceeding in Docket No. EL10-81-000, out of an abundance of caution, we hereby notify parties that the technical conference discussion may touch upon issues pending in this proceeding.

A free webcast of this event is available through http://www.ferc.gov. Anyone with Internet access who desires to view this event can do so by navigating to http://www.ferc.gov' s Calendar of Events and locating this event in the calendar. The event will contain a link to its webcast. The Capitol Connection provides technical support for the free webcasts. It also offers access to this event via television in the DC area and via phone bridge for a fee. If you have any questions, visit http://www.CapitolConnection.org or call (703) 993-3100.

FERC conferences are accessible under section 508 of the Rehabilitation Act of 1973. For accessibility accommodations please send an e-mail to accessibility@ferc.gov or call toll free 1-866-208-3372 (voice) or 202-208-8659 (TTY), or send a fax to 202-208-2106 with the required accommodations.

For more information on this conference, please contact Robert Petrocelli at Robert.Petrocelli@ferc.gov or (202) 502-8447, or Katie Detweiler at Katie.Detweiler@ferc.gov or (202) 502-6424.

Nathaniel J. Davis, Sr.,
Deputy Secretary.

[FR Doc. 2010-21650 Filed 8-30-10; 8:45 am]

BILLING CODE 6717-01-P